DEPARTMENT OF HEALTH AND HUMAN SERVICES

Centers for Disease Control and Prevention

[30Day-24-24AZ]

Agency Forms Undergoing Paperwork Reduction Act Review

In accordance with the Paperwork Reduction Act of 1995, the Centers for Disease Control and Prevention (CDC) has submitted the information collection request titled “OD2A: LOCAL Linkage to and Retention in Care Surveillance” to the Office of Management and Budget (OMB) for review and approval. CDC previously published a “Proposed Data Collection Submitted for Public Comment and Recommendations” notice on November 14, 2023, to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

OD2A: LOCAL Linkage to and Retention in Care Surveillance—New—National Center for Injury Prevention and Control (NCIPC), Centers for Disease Control and Prevention (CDC).

Background and Brief Description

In the United States, opioid overdose deaths have increased significantly over the years, and drug overdose deaths in the United States increased by 14% from 2020 to 2021. Of the 106,699 drug overdose deaths in 2021, over 75% involved an opioid. Deaths involving psychostimulants, such as methamphetamine, also increased from 2020 to 2021. Scaling up prevention and surveillance activities to address substance misuse and nonfatal and fatal drug overdoses are priorities for the Centers for Disease Control and Prevention (CDC). Evidence shows that reducing drug overdoses requires increased capacity for linking people to treatment and harm reduction services and improving retention across care settings. Linking individuals with a substance use disorder to treatment and harm reduction is a key strategy for saving lives and it is crucial that jurisdictions implement surveillance strategies that can inform and improve their linkage to and retention in care activities.

In September 2023, CDC launched a new surveillance program as part of the Overdose Data to Action: Limiting Overdose through Collaborative Actions in Localities (OD2A: LOCAL) Notice of Funding Opportunity (NOFO): Linkage to and Retention in Care Surveillance. Linkage to Care is a five-year NOFO which connects individuals at risk of overdose to evidence-based treatment, services, and supports, thereby reducing future overdoses and other harms associated with substance use. Implementation of surveillance systems to collect data on standardized Linkage to and Retention in Care indicators is needed so that health departments can measure the impact of their linkage to care programs, inform overdose prevention activities, and appropriately allocate public health resources where they are most needed.

Funded local health departments will be tasked with the collection and sharing of standardized Linkage to and Retention in Care indicators with CDC, as part of this effort. Local health departments are uniquely suited to implement surveillance systems for standardized Linkage to and Retention in Care (LTC) indicators due to their proximity to the communities they serve and access to data from local linkage to care programs and activities. Following an extensive environmental scan and with input from local and state overdose prevention and response programs, the CDC defined a substance use disorder cascade of care (CoC) and a set of minimum standard measures to assess local LTC efforts. The overarching goal of this initiative hinges on generating actionable data that jurisdictions can leverage to enhance and fine-tune their linkage to and retention in care programs. Linkage to and Retention in Care surveillance will also foster a robust foundation for deriving insights into disparities, unmet needs, and optimal practices across the CoC.

This approach will help standardize data processes to drive data-to-action decision making and improve intra-jurisdictional comparisons over time to drive better health outcomes. Ultimately, a standardized approach ensures that a greater number of individuals access the care they require and drives meaningful change in how individuals are connected to care. CDC requests OMB approval for an estimated 240 annual burden hours for this collection. There are no costs to respondents other than their time.

Estimated Annualized Burden Hours
Type of respondents | Form name | Number of respondents | Number of responses per respondent | Average burden per response (in hours)
Participating health departments reporting aggregate data to CDC using REDCap | REDCap Data Import Template | 12 | 2 | 8
| REDCap Data Entry Form | 12 | 2 | 2

Jeffrey M. Zirger,
Lead, Information Collection Review Office, Office of Public Health Ethics and Regulations, Office of Science, Centers for Disease Control and Prevention.

[FR Doc. 2024-13903 Filed 6-24-24; 8:45 am]

BILLING CODE 4163-18-P